DEPARTMENT OF DEFENSE

Office of the Secretary

Listening Sessions on Draft Environmental Justice Strategy Approach

AGENCY: Office of the Undersecretary of Defense for Acquisition and Sustainment, Department of Defense (DoD).

ACTION: Notice; listening sessions and notice of availability.

SUMMARY: Pursuant to an Executive order (E.O.), the DoD is updating its EJ Strategy. DoD is soliciting feedback on its draft goals and overall approach to addressing EJ. This draft information is included in the SUPPLEMENTARY INFORMATION section.

DATES: Interested individuals are invited to provide verbal and written feedback on DoD's draft goals and overall approach to addressing EJ throughout the Department.

DoD is offering the following two public, virtual listening sessions:

Tuesday, June 25, 2024 10:00 a.m.-12:00 p.m. Eastern Standard Time (EST), Virtual, Registration link: https://bahmeet.webex.com/weblink/register/r2f51bca3daf05861f651722223990d09

Thursday, June 27, 2024 4:00 p.m.-6:00 p.m. EST Virtual, Registration link: https://bahmeet.webex.com/weblink/register/r14abbe7c9b79eed68e43d6baa288ab07

Individuals in the United States who are deaf, deafblind, hard of hearing, or have a speech disability may dial 711 (TTY, TDD, or TeleBraille) to access telecommunications relay services.

DoD will consider all comments received during the public listening sessions. Please clarify whether feedback is intended for the Department's draft EJ goals or overall approach to addressing EJ. DoD also plans to record these listening sessions to accurately capture inputs on the draft EJ goals and implementation approach. DoD plans to only use the recordings for this purpose. All feedback, including personal information, provided during the listening sessions may be made public. The Department cautions commenters from including personal or other identifying information they do not want made publicly available when submitting their feedback.

ADDRESSES: Individuals may also provide written feedback. DoD will consider all comments postmarked by 07/09/2024. Please clarify whether feedback is intended for the Department's draft EJ goals or overall approach to addressing EJ.

Submitting Comments: Individuals may submit written comments via one of the following methods:

• Email to: terry.l.bowers14.civ@mail.mil; osd.ejstrategy@mail.mil or

• Mail hard copy to: Terry Bowers, Office of the Assistant Secretary of Defense for Energy, Installations, and Environment, 3400 Defense Pentagon, Washington, DC 20301-3400.

Written comments must include the commenter's name and reference the Department's EJ Strategy. All feedback, including personal information, provided via written comment may be made public. The Department cautions commenters from including personal or other identifying information they do not want made publicly available when submitting their feedback.

Accessing Documents and Additional Information: Individuals may access additional information on the Department's EJ efforts through the following link: https://www.denix.osd.mil/ej/.

FOR FURTHER INFORMATION CONTACT: Mr. Terry Bowers, 571-232-2482, terry.l.bowers14.civ@mail.mil and osd.ejstrategy@mail.mil.

SUPPLEMENTARY INFORMATION: Background: E.O. 14096 directs Federal agencies to develop an EJ Strategy that will “set forth the agency's vision, goals, priority actions, and metrics to address and advance environmental justice and to fulfill the directives of the E.O., including through the identification of new staffing, policies, regulations, or guidance documents”, as well as “identify and address opportunities through regulations, policies, permits, or other means to improve accountability and compliance with any statute the agency administers that affects the health and environment of communities with environmental justice concerns.”

To advance its EJ efforts, the Department is updating its EJ Strategy in accordance with E.O. 14096. DoD will evaluate all verbal and written feedback received on the draft goals and overall approach to advancing EJ across the Department.

Listening Session Format: The listening sessions listed above will be two hours. Each session will start with an overview and then participants will have an opportunity to provide feedback through a variety of engagement tools. If you require a reasonable accommodation to attend one of the listening sessions, please email: terry.l.bowers14.civ@mail.mil, orosd.ejstrategy@mail.mil.

Draft Goals and Overall Approach to Addressing EJ: DoD would appreciate feedback on the following questions:

1. Do the drafted EJ goals and overall implementation approach address your concerns regarding the advancement of EJ throughout the Department? Why or why not? Note: the drafted items are included below.

2. Are there any concerns with the Department's drafted overall approach to addressing EJ?

3. Are there any concerns not currently reflected in the drafted materials included below?

DoD drafted the following Goals in response to E.O. 14096:

• Regularly assess EJ-related plans, policies, programs, and actions across all DoD programs after first educating and expanding EJ awareness of actions disproportionately impacting low income, minority, Tribal, disabled, and/or descendant populations across all DoD programs.

• Identify, characterize, and assess effects of DoD plans, programs, policies, and activities disproportionately impacting communities and stakeholders, including whether effects are chronic or acute.

• Investigate methods to mitigate impacts of DoD plans, programs, policies, and activities after first identifying potentially affected communities and stakeholders.

• Provide tools to improve DoD's capacity to conduct meaningful and effective work supporting EJ.

• Strengthen outreach to communities and stakeholders that may be disproportionately affected by high and adverse environmental, human health, or cultural impacts from DoD programs, policies, and activities through appropriate public engagement.

DoD also drafted the following overall approach to addressing EJ:

DoD anticipates that it will need to execute a considerable amount of work to effectively integrate EJ across the enterprise to meet E.O. 14096. Historically, DoD has used compliance with the National Environmental Policy Act, National Historic Preservation Act, and Comprehensive Environmental Response, Compensation, and Liability Act processes to address EJ. The Department may take a more proactive approach by incorporating EJ into Office of the Secretary of Defense (OSD), Military Department (MILDEP), and installation-level planning processes. These plans may include or discuss installation master planning, climate change, cultural and natural resources conservation, integrated installation resilience, and others. Integrating EJ into the Department's policies and programs will require consistent coordination across OSD, the MILDEPs, individual installations, and other DoD equities.

The Department may investigate methods to streamline EJ implementation, including:

• Issuing a Secretary of Defense or Deputy Secretary of Defense message, discussing the importance of EJ and explaining CEQ's EJ guidance;

• Designating a Chief EJ Officer for each MILDEP;

• Coordinating with the MILDEPs and DoD Components on the best methods to integrate EJ into existing programming, planning, acquisition, and other actions;

• Issuing a DoD Directive, Instruction, and/or Manual, describing consistent EJ implementation across all programs and services and identifying actions better managed at the OSD-level versus the MILDEP- and installation-levels;

• Developing EJ training and communication materials for DoD leadership; and

• Beginning integration of available EJ tools into planning documents.

Dated: June 6, 2024.
Patricia L. Toppings,
OSD Federal Register Liaison Officer, Department of Defense.

[FR Doc. 2024-12775 Filed 6-10-24; 8:45 am]

BILLING CODE 6001-FR-P